DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: TRICARE Retiree Dental Program Enrollment Application; OMB Number 0720-0015.

Type of Request: Revision

Number of Respondents: 50,000

Responses per Respondent: 1

Annual Responses: 50,000

Average Burden per Response: 15 minutes

Annual Burden Hours: 12,500

Needs and Uses: This information collection is completed by Uniformed Services members entitled to retired pay and their eligible family members who are seeking enrollment in the TRICARE Retiree Dental Program (TRDP). The information is necessary to enable the DoD-contracted third party administrator of the program to identify the program's applicants, determine their eligibility for TRDP enrollment, establish the premium payment amount, and to verity by the applicant's signature that the applicant understands the benefits and rules of the program.

Affected Public: Individuals or Households.

Frequency: On Occasion.

Respondents Obligation: Required to Obtain or Retain Benefits.

OMB Dest Officer: Ms. Allison Eydt.

Written comments and recommendations on the proposed information collection should be sent to Ms. Eydt at the Office of Management and Budget, Desk Officer for DoD Health Affairs, Room 10235, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: October 24, 2000.
Patricia L. Toppings,
Alternate OSD Federal Register Liaison Officer, Department of Defense.

[FR Doc. 00-27760 Filed 10-27-00; 8:45 am]

BILLING CODE 5001-10-M